DEPARTMENT OF HEALTH AND HUMAN SERVICES

Centers for Disease Control and Prevention

[Program Announcement 01030]

National Programs To Promote Physical Activity Among Youth; Notice of Availability of Funds

A. Purpose

The Centers for Disease Control and Prevention (CDC) announces the availability of fiscal year (FY) 2001 funds for cooperative agreement programs for “National Programs to Promote Physical Activity Among Youth”. This program addresses the “Healthy People 2010” focus area of “Physical Activity and Fitness.”

The purpose of the program is for national organizations to become an integral part of a broad national strategy to support projects that help schools and communities nationwide implement activities and reinforce national youth media campaign messages that promote healthy activity, especially physical activity, among youth. These activities should target youths ages 9 to 13 years old, their parents and other primary care-givers, and others who can influence pre-teens (e.g., teachers, coaches, school personnel, community leaders, teenagers). Additional background information on CDC's National Youth Media Campaign and physical activity resources can be found in Appendix I and Appendix II.

B. Eligible Applicants

Assistance will be provided to national organizations that are private health, education, or social services agencies (professional or voluntary); qualify as a non-profit 501(c) (3) entity; have affiliate offices or local, state, or regional membership constituencies in a minimum of 10 states and territories; and have the capacity and experience to assist their affiliates offices and membership constituencies. Affiliate offices and local, state, or regional membership constituencies may not apply in lieu of, or on behalf of, their parent national office.

Note: Title 2 of the United States Code, Chapter 26, section 1611 states that an organization described in section 501(c)(4) of the Internal Revenue Code of 1986 that engages in lobbying activities is not eligible to receive Federal funds constituting an award, grant, cooperative agreement, contract, loan, or any other form.

C. Availability of Funds

Approximately $625,000 is available in FY 2001 to fund approximately five awards. It is expected that the average award will be $125,000, ranging from $100,000 to $175,000. It is expected that the awards will begin on or about September 15, 2001, and will be for a 12-month budget period within a 24-month project period. Funding estimates may change.

Continuation awards within an approved project period will be made on the basis of satisfactory progress as evidenced by required reports and the availability of funds.

Funding Priority

Priority will be given to national organizations that have constituencies that can have an influence on pre-teens and those who influence pre-teens including parents, teachers, coaches, school personnel, community leaders and teenagers. Public comments on the proposed Funding Priority are not being solicited due to insufficient time prior to the funding date.

D. Program Requirements

In conducting activities to achieve the purpose of this program, the recipient will be responsible for the activities under 1 (Recipient Activities), and CDC will be responsible for the activities listed under 2 (CDC activities).

1. Recipient Activities

a. Link proposed activities with established national youth media campaign messages, and activities that promote healthy activity, especially physical activity, among youth. Whenever possible, conduct proposed activities in communities hosting grassroots events to promote physical activity as part of national youth media campaigns.

b. Work with the media to promote school-and community-based youth physical activity programs and activities.

c. Use existing media tools, including national youth media campaign tools and resources (as they become available) to achieve program objectives.

d. Develop partnerships with media; businesses; national health, education, and social services organizations; federal agencies; and state and local education, health, and social services agencies to reinforce national youth media campaign messages (as they become available).

e. Participate in an expert panel meeting on school-and community-based strategies for reinforcing and supporting media messages including national youth media campaign messages, tools, and resources.

f. Support, develop, and implement one or more of the following activities:

(1) Develop, pilot-test, finalize, and distribute tools to educate parents about the importance of physical activity to the health and well-being of youth, their role in promoting and supporting their child(ren) and other youth in being physically active, and engaging parent-teacher organizations in assessing and improving the quality of a school's physical activity program (i.e., quality, daily physical education; extracurricular physical activity programs consisting of intramural activities and/or physical activity clubs, and interscholastic sports; daily recess periods for elementary school students; and classroom health education that complements physical education). Examples of such tools include written materials and presentation materials (e.g., slides and other audiovisual aids, answers to frequently asked questions), and a Web site.

(2) Develop, pilot-test, finalize, and distribute tools that educate school administrators and other decision-makers about the importance and key comments of a school physical activity program (i.e., quality, daily physical education; extracurricular physical activity programs consisting of intramural activities and/or physical activity clubs, and interscholastic sports; daily recess periods for elementary school students; and classroom health education that complements physical education) and specific actions that they can take to support school physical activity programs. Examples of such tools include written materials and presentation materials (e.g., slides and other audiovisual aids, answers to frequently asked questions).

(3) Develop, pilot-test, finalize, and distribute tools for assessing and evaluating student performance in school physical education based on student achievement of the National Standards for Physical Education. Examples of such tools include performance indicators, assessment options, and scoring rubrics.

(4) Develop, pilot-test, finalize, and distribute tools to educate decision-makers about the importance of implementing state- and school district-level systems to hold schools accountable for student achievement in school physical education based on district, state, or national standards and actions they can take to support and establish physical education accountability systems. Examples of such tools include written materials and presentation materials (e.g., slides and other audiovisual aids, answers to frequently asked questions) that provide background on school reform (e.g., standards-based education, school accountability), strengths and weaknesses of various models of accountability for school physical education (e.g., state graduation exit exams, state report cards) and specific examples of physical education accountability models that currently exist in states and school districts.

(5) Develop, pilot-test, finalize, and distribute model professional staff development sessions for physical education teachers and other teachers assigned to teach physical education on cutting-edge topics such as assessment of student performance in school physical education, development and monitoring of personal physical activity plans for students, and use of technology in physical education. For each staff development topic, the model could include items such as goals/objectives and a “lesson plan” for the staff development session; audiovisual aids; list of resources on the topic (e.g., national experts, books/materials, web sites); talking points on key issues; answers to frequently asked questions; and sample instructional materials, techniques, lesson plans, and assessments to support instruction in physical education classes.

(6) Develop, pilot-test, finalize, and distribute a model for offering intramural physical activities and/or physical activity clubs that appeal to all students, particularly those who are not athletically gifted, with an emphasis on addressing the needs and interests of pre-teen girls. The model could include varied and innovative activities, student input into what activities are offered, and strategies to overcome barriers to participation (e.g., lack of incentives for adult supervisors, transportation home after the activity, cost to students).

(7) Support walk to school initiatives (e.g., National Walk Our Children to School Day, CDC's KidsWalk-to-School program) in various communities in different regions of the country. Written materials could be developed and distributed to describe the initiatives of the communities such as a description of the activity, amount and type of participation, leaders and partners, barriers and how they were overcome, lessons learned, and future plans.

(8) Develop, pilot-test, finalize, and distribute a model for keeping school physical activity facilities open outside of school hours for use by community members (particularly pre-teens, 9-13 years old) for physical activity participation/programs.

(9) Develop, pilot-test, finalize, and distribute a model for making community-based youth physical activity programs accessible to all youth (particularly pre-teens, 9-13 years old). The model could include innovative approaches to overcoming barriers to youth participation in community physical activity programs such as lack of incentives for adult supervisors, transportation between home and school and the programs, and cost to participants.

(10) Support and provide technical assistance to state physical activity coalitions to develop diverse partnerships to promote physical activity among youth through increased public awareness/education (e.g., media) and development and implementation of policies and programs. Partners could include individuals, organizations, and agencies that represent health, education, social services, parks and recreation, transportation, and community design; parents; youth; community members; business partners; media; and others who can promote policy changes that can affect physical activity participation. Written materials could be developed and distributed to summarize the status of each coalition such as a description of their policy and programmatic activities, members and partnerships, barriers and how they were overcome, lessons learned, and future plans.

2. CDC Activities

a. Provide programmatic consultation and guidance related to program planning, implementation, and evaluation; assessment of program objectives; and dissemination of successful strategies, experiences, and evaluation reports.

b. Coordinate with national organizations and state and local education agencies, as well as other relevant organizations and agencies, in planning and conducting national strategies designed to encourage healthy activity, especially physical activity, to promote healthy lifestyles and displace unhealthy, risky behaviors.

c. Assist with planning and conducting an expert panel meeting of national organizations and state and local education agencies and other appropriate organizations, agencies, and individuals on school-and community-based strategies.

E. Content

Use the information in the Program Requirements, Other Requirements, and Evaluation Criteria sections to develop the application content. Your application will be evaluated on the criteria listed, so it is important to follow the criteria as you construct your program plan. The narrative should be no more than 20 double-spaced pages, printed on one side, with one-inch margins, and unreduced font.

1. Background and Need (No More Than 2 Pages)

a. Describe the problem(s) being addressed by the national organization's proposed activities.

b. Describe the need for the proposed activities nationally.

2. Capacity (No More Than 4 Pages)

a. Describe the national organization's efforts and relevant experience that support the promotion of healthy activity, especially physical activity, for youth, including such factors as:

(1) Current and previous experience related to the described problem and need and the proposed activities;

(2) Current and previous experience related to publicizing, marketing, and garnering media attention for programs and activities, particularly efforts related to the promotion of healthy activity, especially physical activity, for youth;

(3) Current and previous experience related to communicating to/with decision-makers and others who can influence youth such as their parents or other primary care-givers, teachers, coaches, school personnel, community leaders, and peers, particularly efforts related to discussing the benefits of healthy activity, especially physical activity, for youth;

(4) Current and previous experience related to coordinating/collaborating with federal, state, and local government agencies, and non-governmental organizations that work in the areas of health, education, social services, and other relevant areas, particularly efforts related to the promotion of healthy activity, especially physical activity, for youth;

(5) Current and previous experience related to building and/or participating in alliances, networks, or coalitions, particularly efforts related to the promotion of healthy activity, especially physical activity, for youth.

b. Describe the national organization's constituents and affiliates as follows:

(1) Type of constituency;

(2) Number of constituents and affiliates;

(3) Location of constituents and affiliates;

(4) How the constituents and affiliates work with or influence youths ages 9 to 13, their parents or other primary care-givers, and other key influential adults in promoting healthy activity, especially physical activity;

(5) How the constituents and affiliates work with decision-makers in discussing the benefits of healthy activity, especially physical activity.

3. Operational Plan (No More Than 6 Pages)

a. Goals. List goals that specifically relate to completion of program requirements at the end of the one year project period.

b. Objectives: List objectives that are specific, measurable, and feasible to be accomplished during the 12-month budget period. The objectives should relate directly to the project goals and recipient activities.

c. Describe in narrative form, and display on a timetable, specific activities that are related to each objective. Indicate when each activity will occur as well as when preparations for activities will occur. Also, indicate who will be responsible for each activity and identify staff who will work on each activity.

4. Administration and Management (No More Than 2 Pages)

a. Provide in the application appendices job descriptions for key staff who will work on the proposed activities.

b. Demonstrate that key personnel have the necessary background and qualifications for the proposed responsibilities; ensure for each position the appropriate education and experience; and include curriculum vitae and letters of support from already-identified contractors (if applicable) who will work on the proposed activities.

c. Provide an organizational chart that illustrates the national organization's structure in regard to member/staff roles and positions. Describe lines of communication, accountability, reporting, authority, and management and control systems.

5. Collaboration (No More Than 2 Pages)

Describe the types of proposed collaboration and the agencies and organizations with whom collaboration will be conducted. Examples of such activities include, but are not limited to:

a. Coordinating or collaborating with relevant agencies and organizations on the development, dissemination, and implementation of the national organization's proposed activities.

b. Linking with national youth media campaign messages and activities that promote healthy activity, especially physical activity, among youth, and conducting pilot-testing of projects in communities hosting grassroots events to promote youth physical activity as part of national youth media campaign events.

c. Participating in teleconferences, workshops, and meetings with other agencies and organizations to conduct national youth media campaign activities.

d. Participating in an expert panel meeting on school and community-based strategies for reinforcing and supporting National Youth Media Campaign messages, tools, and resources.

6. Evaluation Plan (No More Than 2 Pages)

Describe plans to evaluate progress in meeting objectives and conducting activities during the budget period. Specify what data will be obtained and present a plan that includes how the data will be obtained, prepared in a specific report(s), and used to improve the program. Indicate in the plan who will do what and when.

7. Budget and Justification (No More Than 2 Pages)

Provide detailed budget and line-item justification for all operating expenses that are consistent with proposed objectives and planned activities, including funds to travel at least one staff person to a two-day expert panel meeting in Atlanta, Georgia on school-and community-based strategies for reinforcing and supporting National Youth Media Campaign messages, tools, and resources.

F. Submission and Deadline

Letter of Intent (LOI)

A LOI is requested for this program. On or before June 1, 2001, fax the LOI to the Grants Management Specialist identified in the “Where to Obtain Additional Information” section of this announcement. The narrative should be no more than one double-spaced page, printed on one side, with one inch margins, and unreduced font. Your letter of intent will be used to enable the program to better estimate the number of reviewers that will be required to review applications. The LOI should consist of a simple statement of the organization's intention to apply. The information contained within the letter of intent will not be reviewed or used as part of the application review process.

Application

Submit the original and two copies of PHS 5161-1 (OMB Number 0920-0428). Forms are available in the application kit and at the following Internet address: http://forms.psc.gov.

On or before July 15, 2001, submit the application to the Grants Management Specialist identified in the “Where to Obtain Additional Information” section of this announcement.

Deadline: Applications will be considered as meeting the deadline if they are either:

1. Received on or before the deadline date; or

2. Sent on or before the deadline date and received in time for submission to the independent review group. (Applicants must request a legibly dated U.S. Postal Service postmark or obtain a legibly dated receipt from a commercial carrier or U.S. Postal Service. Private metered postmarks shall not be acceptable as proof of timely mailing.)

Late Applications which do not meet the criteria in 1. or 2. above will be returned to the applicant.

G. Evaluation Criteria (100 Points)

Each application will be evaluated individually against the following evaluation criteria by an independent review group appointed by CDC.

1. Background and Need (10 points)

The extent to which the applicant describes the problem(s) being addressed by their proposed activities and the need for their proposed activities nationally.

2. Capacity (35 points)

The extent to which the applicant demonstrates the capacity and ability of their organization and constituency to influence pre-teens, their care-givers and promote healthy activity for youth, especially physical activity. The care-givers, and others who can influence pre-teens (e.g, teachers, coaches, school personnel, community leaders, teenagers).

3. Operational Plan (30 points)

The extent to which the applicant:

a. Identifies Goals. The extent to which the applicant has submitted goals that are specific and feasible for the projected one year project period and are consistent with program requirements.

b. Identifies Objectives. The extent to which the applicant has submitted objectives for the one year budget period that are specific, measurable, and feasible and are related directly to the program's goals.

c. Describes in narrative form, and on a timetable, specific activities related to each objective.

4. Administration and Management (10 Points)

The extent to which the applicant identifies staff that have the responsibility, capability, and authority to carry out each activity, as evidenced by job descriptions, curriculum vitae, organizational charts, and letters of support from already-identified contractors (if applicable).

5. Collaboration (10 Points)

The extent to which the applicant provides letters of commitment from proposed collaborators and partners, and describes how they will coordinate or collaborate with relevant agencies and organizations to conduct their proposed activities and integrate their proposed activities with national youth media campaign messages and activities that promote healthy activity, especially physical activity, among youth.

6. Evaluation Plan (5 Points)

The extent and method to which the applicant proposes to measure progress in meeting objectives and program effectiveness, and presents a reasonable plan for obtaining data, reporting the results, and using the results for programmatic decisions.

7. Budget and Justification (Reviewed, But Not Scored)

The extent to which the budget is reasonable and consistent with the purposes and activities of the program.

H. Other Requirements

Technical Reporting Requirement

Provide CDC with the original plus two copies of:

1. Annual progress reports.

2. Financial status report, no more than 90 days after the end of the budget period.

3. Final financial report and performance report, no more than 90 days after the end of the project period.

Send all reports to the Grants Management Specialist identified in the “Where to Obtain Additional Information” section of this announcement.

The following additional requirements are applicable to this program. For a complete description of each, see Attachment I of the application kit.

AR-7 Executive Order 12372 Review

AR-8 Public Health System Reporting Requirement

AR-9 Paperwork Reduction Act Requirements

AR-10 Smoke-Free Workplace Requirements

AR-11 Healthy People 2010

AR-12 Lobbying Restrictions

AR-14 Accounting System Requirements

AR-15 Proof of Non-Profit Status

I. Authority and Catalog of Federal Domestic Assistance Number

This program is authorized under sections 301(a), 311(b) and (c), and 317 (k)(2) [42 U.S.C. 241(a), 243 (b) and (c), and 247b(K)(2)] of the Public Health Service Act, as amended. The Catalog of Federal Domestic Assistance number is 93.938.

J. Where To Obtain Additional Information

This and other CDC announcements can be found on the CDC home page Internet address http://www.cdc.gov. Click on “Funding” then “Grants and Cooperative Agreements.”

Cynthia Collins, Grants Management Specialist, Grants Management Branch, Centers for Disease Control and Prevention (CDC), Program Announcement 01031, 2920 Brandywine Rd., Room 3000, MS E-18, Atlanta, GA 30341-4146, Telephone number: 770-488-2757, Fax: 770-488-2820, Email: coc9@cdc.gov.

For program technical assistance, contact:

Mary Vernon-Smiley, Chief, Special Populations Program Section, Division of Adolescent and School Health, National Center for Chronic Disease Prevention and Health Promotion, Centers for Disease Control and Prevention (CDC), 4770 Buford Highway, NE MS K-31, Atlanta, GA 30341, Telephone number: 770-488-6199, Email: mev0@cdc.gov.

Dated: May 17, 2001.
John L. Williams,
Director, Procurement and Grants Office, Centers for Disease Control and Prevention (CDC).

[FR Doc. 01-12984 Filed 5-22-01; 8:45 am]

BILLING CODE 4163-18-P